DEPARTMENT OF HEALTH AND HUMAN SERVICES

Agency for Healthcare Research and Quality

Request for Information: AHRQ's Proposed Patient-Centered Outcomes Research Trust Fund Strategic Framework; Extension of Comment Period

AGENCY: Agency for Healthcare Research and Quality, HHS.

ACTION: Request for information; notice of extension of comment period.

SUMMARY: In the Federal Register of February 18, 2022, the Agency for Healthcare Research and Quality (AHRQ) announced that it was seeking input from the public on its proposed strategic framework for AHRQ's Patient-Centered Outcomes Research Trust Fund investments. This notice extends the comment period 35 days from April 19, 2022 to May 24, 2022. The subject matter content remains unchanged from the original notice.

DATES: Comments on this notice must be received by May 24, 2022. AHRQ will not respond individually to responders but will consider all comments submitted by the deadline.

ADDRESSES: Please submit all responses via email to: PCORTF@ahrq.hhs.gov.

FOR FURTHER INFORMATION CONTACT: Karin Rhodes, MD, Chief Implementation Officer, Email: PCORTF@ahrq.hhs.gov, Telephone: 301-427-1364 or 240-463-0872.

SUPPLEMENTARY INFORMATION: AHRQ is authorized under 42 U.S.C. 299b-37 to broadly disseminate patient-centered outcomes research (PCOR) findings, including incorporation of PCOR findings into health information technology focused on clinical decision support, and to train researchers in the methods used to conduct PCOR. PCOR compares the impact of two or more preventive, diagnostic, treatment, or healthcare delivery approaches on health outcomes, including those that are meaningful to patients.

AHRQ's work under 42 U.S.C. 299b-37 is funded by the Patient-Centered Outcomes Research Trust Fund (PCORTF), 26 U.S.C. 9511, which was established in 2010 and reauthorized in 2019. To learn more about the PCORTF, please visit: https://www.ahrq.gov/pcor/potential-of-the-pcortf/index.html.

In response to the reauthorization of the PCORTF, AHRQ has developed a proposed strategic framework to guide future planning and evaluation of AHRQ's PCORTF investments (the strategic framework). The strategic framework is consistent with AHRQ's broader goal of improving the quality, safety, equity, and value of healthcare delivery.

The proposed strategic framework identifies five priorities for improving healthcare delivery that are aligned with AHRQ's mission and that have the potential to improve outcomes that patients care about. These priorities are interrelated, and all contribute to achieving the proposed strategic framework's overall vision of equitable whole-person care across the lifespan. The proposed strategic framework is consistent with AHRQ's Congressional authorization for investments from the PCORTF and is aligned with national health priorities.

The AHRQ PCORTF strategic framework includes a mission, vision, high-level priorities, desired outcomes, and cross-cutting strategies for advancing the desired outcomes. This framework is expected to describe and inform the portfolio of AHRQ PCORTF investments. AHRQ will use this broad framework to guide long-range planning and to guide the development of projects and investments.

AHRQ PCORTF-funded projects will be connected to components and sub-components of the strategic framework. Use of the strategic framework is intended to ensure that AHRQ's investments are coherently connected and advance the overall vision of advancing equitable whole-person care across the lifespan. The final strategic framework will also provide a basis for creating an evaluation framework, measuring the success of individual projects, and identifying the overall impact of AHRQ's PCORTF investments.

AHRQ is seeking public comment on the proposed strategic framework for AHRQ's PCORTF investments.

BILLING CODE 4160-90-P

BILLING CODE 4160-90-C

AHRQ hopes to receive feedback from patients, healthcare professionals, community groups, employers, health services researchers, dissemination and implementation scientists, communications experts, representatives from health systems, public and private payers, and other stakeholders.

The input received from this public comment period will be used in refining and finalizing the strategic framework. Based on the final strategic framework, AHRQ intends to develop an operational plan, which will include specific short- and long-term objectives and a formative and summative evaluation. The overall goal of AHRQ's planning process is to identify investments consistent with its PCORTF authorization that will have the greatest positive impact on health and healthcare.

AHRQ is requesting information from the public regarding the following broad questions:

1. AHRQ would like overall reactions to the strategic framework; is there any aspect of the framework that:

a. Does not promote the vision of advancing equitable whole-person care across the lifespan?

b. Does not address major challenges faced by the U.S. healthcare system?

c. Could be improved (and if so, how)?

2. AHRQ would like input on our (non-ranked) high-level priority areas:

a. Do our proposed high-level priorities miss any areas of critical importance?

b. Are any of the high-level priorities more important than others?

3. AHRQ would like input on how to target investments within high-priority areas. For example, should AHRQ focus on:

a. Specific ages/stages or apply AHRQ's investments equally across the lifespan?

b. Transitions in care?

4. AHRQ would also appreciate suggestions for applying the strategic framework. For example:

a. How can AHRQ improve the dissemination of patient-centered outcomes research evidence to decision-makers at the local, State, and Federal levels?

b. What targeted investments could AHRQ make to sustain progress towards the strategic framework's desired outcomes?

c. What AHRQ PCORTF investments could help improve healthcare provider trust, well-being, and retention?

5. How can AHRQ have the greatest impact and success at achieving the vision and mission of the strategic framework?

a. What is the most effective way to ensure the sustainability of initiatives that seek to enhance the integration of patient-centered outcomes research findings into practice?

b. What complementary partnerships and collaborations (both public and private) would increase the impact of AHRQ's PCORTF investments?

c. What will be the best way of measuring progress and the overall impact of AHRQ's PCORTF investments?

6. Is there anything else you would like to share regarding the strategic framework?

AHRQ is interested in all of the questions listed above, but respondents are welcome to address as many or as few as they choose and to address additional areas of interest not listed. It is helpful to identify which question a particular answer is a response to.

This RFI is for planning purposes only and should not be construed as a policy, solicitation for applications, or as an obligation on the part of the Government to provide support for any ideas identified in response to it. AHRQ will use the information submitted in response to this RFI at its discretion and will not provide comments to any responder's submission. However, responses to the RFI may be reflected in future solicitation(s) or policies. The information provided will be analyzed and may appear in reports. Respondents will not be identified in any published reports. Respondents are advised that the Government is under no obligation to acknowledge receipt of the information received or provide feedback to respondents with respect to any information submitted. No proprietary, classified, confidential, or sensitive information should be included in your response. The contents of all submissions will be made available to the public upon request. Materials submitted must be publicly available or able to be made public.

Dated: April 11, 2022.
Marquita Cullom,
Associate Director.

[FR Doc. 2022-08038 Filed 4-14-22; 8:45 am]

BILLING CODE 4160-90-P